ENVIRONMENTAL PROTECTION AGENCY

[FRL-7239-1]

Public Water System Supervision Program Revision for the State of Florida

AGENCY: Environmental Protection Agency (EPA).

ACTION: Notice of tentative approval.

SUMMARY: Notice is hereby given that the State of Florida is revising its approved Public Water System Supervision Program. Florida has adopted drinking water regulations for the Stage 1 Disinfection Byproducts Rule. EPA has determined that these revisions are no less stringent than the corresponding Federal regulations. Therefore, EPA intends on approving this State program revision.

DATES: All interested parties may request a public hearing. A request for a public hearing must be submitted by July 29, 2002, to the Regional Administrator at the address shown below. Frivolous or insubstantial requests for a hearing may be denied by the Regional Administrator. However, if a substantial request for a public hearing is made by July 29, 2002, a public hearing will be held. If no timely and appropriate request for a hearing is received and the Regional Administrator does not elect to hold a hearing on his own motion, this determination shall become final and effective on July 29, 2002.

Any request for a public hearing shall include the following information: (1) The name, address, and telephone number of the individual organization, or other entity requesting a hearing; (2) A brief statement of the requesting person's interest in the Regional Administrator's determination and a brief statement of the information that the requesting person intends to submit at such hearing; (3) The signature of the individual making the request, or, if the request is made on behalf of an organization or other entity, the signature of a responsible official of the organization or other entity.

ADDRESSES: All documents relating to this determination are available for inspection between the hours of 8 a.m. and 4:30 p.m., Monday through Friday, at the following offices: Florida Department of Environmental Protection, Twin Towers Office Building, 2600 Blair Stone Road, Tallahassee, Florida 32399-2400, or at the Environmental Protection Agency, Region 4, Drinking Water Section, 61 Forsyth Street Southwest, Atlanta, Georgia 30303.

FOR FURTHER INFORMATION CONTACT: Franklin Baker, EPA Region 4, Drinking Water Section at the Atlanta address given above or at telephone (404) 562-9442.

Authority: (Section 1420 of the Safe Drinking Water Act, as amended (1996), and 40 CFR Part 142 of the National Primary Drinking Water Regulations).

Dated: June 12, 2002.
A. Stanely Meiburg,
Acting Regional Administrator, Region 4.

[FR Doc. 02-16360 Filed 6-27-02; 8:45 am]

BILLING CODE 6560-50-P